DEPARTMENT OF TRANSPORTATION

Federal Railroad Administration

[Docket No. FRA-2009-0001-19]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than October 9, 2009.

ADDRESSES: Submit written comments on any or all of the following proposed activities by mail to either: Mr. Robert Brogan, Office of Safety, Planning and Evaluation Division, RRS-21, Federal Railroad Administration, 1200 New Jersey Ave., SE., Mail Stop 25, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-0560.” Alternatively, comments may be transmitted via facsimile to (202) 493-6216 or (202) 493-6497, or via e-mail to Mr. Brogan at robert.brogan@dot.gov, or to Ms. Jackson at nakia.jackson@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Use of Locomotive Horns at Highway-Rail Grade Crossings

OMB Control Number: 2130-0560

Abstract: The collection of information is used by FRA to increase safety at highway-rail grade crossings nationwide by requiring that locomotive horns be sounded when train approach and pass through these crossings, or by ensuring that a safety level at least equivalent to that provided by blowing horns exists for rail corridors in which horns are silenced. Communities that qualify for this exception may create “quiet zones” within which locomotive horns would not be routinely sounded. FRA reviews applications by public authorities intending to establish new or, in some cases, continue pre-rule quiet zones to ensure that the necessary level of safety is achieved.

Form Number(s): N/A.

Affected Public: Public Authorities/Railroads.

Respondent Universe: 340 Public Authorities.

Frequency of Submission: On occasion.

Reporting Burden:

CFR section | Respondent universe | Total annual responses | Average time per response | Total annual burden hours
222.11—Penalties—Falsified Records/Reports | 727 Railroads/340 Public Authorities | 5 records/reports | 2 hours | 10
222.15—Waiver Petitions | 727 Railroads/340 Public Authorities | 5 petitions | 4 hours | 20
222.17—Applications to Become a Recognized State Agency | 68 State Agencies | 7 applications | 8 hours | 56
222.39—Establishment of Quiet Zone—Public Authority Application to FRA —Application Diagnostic Team Reviews —Completed Grade Crossing Inventory Forms —Copies of Public Authority Quiet Zone Applications —Comments on Public Authority Quiet Zone Applications | 340 Public Authorities 340 Public Authorities 340 Public Authorities 340 Public Authorities 715 Railroads/State Agencies | 105 applications 53 diagnostic team reviews 302 updated forms 630 copies 50 comments | 80 hours 32 hours 1 hour 10 minutes 2.5 hours | 8,400 1,696 302 105 125
222.41—Notice of Quiet Zone Establishment and Notification to Parties —Certification by Public Authority CEO —Required Grade Crossing Inventory Forms —Notice of Quiet Zone Continuation and Notification to Parties —Certification by Public Authority CEO —Required Grade Crossing Inventory Forms —Filing of Detailed Plans by Public Authority —Statewide Implementation Plan to Continue Horn Ban—Notice of Intent to Create New Quiet Zone —Comments on Public Authorities Notice of Intent | 247 Communities/PAs 262 Communities 200 Communities 200 Communities 200 Communities 200 Communities 200 Communities/PAs 25 State Agencies 200 Public Authorities 200 RRs/State Agencies | 247 notices + 1,482 notification 262 certifications 2,364 forms 200 notices + 1,200 notification 200 certifications 416 forms 100 plans 3 impl. Plans 100 notices + 600 notifications 70 comments | 40 hours + 10 min. 5 minutes 60 minutes 40 hours + 10 min. 5 minutes 1 hour 40 hours 120 hours 20 hours + 10 minutes 4 hours | 10,127 22 2,364 8,200 17 416 4,000 360 2,100 280
222.42—Intermediate Quiet Zones/Partial Quiet Zones —Notice of Quiet Zone Continuation —Required Grade Crossing Inventory Forms —Certification by Public Authority CEO —Notice of Intent to Establish New/Partial Quiet Zone —Comments on Public Authorities Notice of Intent —Conversion of Intermediate Partial Quiet Zone into 24-hour Quiet Zone—Notices + Notifications —Public Comments on Notice of Intent | 10 Communities/PAs 10 Communities/PAs 10 Communities/PAs 10 Communities/PAs 20 RRs/State Agencies 10 Public Authorities 20 RRs/State Agencies | 10 notices + 60 notifications 100 forms 10 certifications 5 notices + 30 notifications 5 comments 5 notices + 30 notifications 5 comments | 40 hours + 10 min. 1 hour 5 minutes 40 hours + 10 min. 4 hours 40 hours + 10 min. 4 hours | 410 100 1 205 20 205 20
222.43—Notices and Other Required Information to Create or Continue a Quiet Zone —Notice of Intent to Create New/Partial Quiet Zone or Implement New Supplementary Safety Measures or Auxiliary Safety Measures w/in Pre-Rule Quiet Zone —Required Grade Crossing Inventory Forms —Comments on Public Authorities Notice of Intent —Notice of Quiet Zone Establishment —Required Grade Crossing Inventory Forms —Certification by Public Authority CEO | 216 Communities/PAs 216 Communities 715 RRs/State Agencies 316 Public Authorities 316 Public Authorities 216 Public Authorities | 216 notices + 648 notifications 376 updated forms 108 comments 72 notices + 432 notifications 950 updated forms 216 certifications | 40 hours + 10 min. 1 hour 4 hours 40 hours + 10 min. 1 hour 5 minutes | 8,748 376 432 2,952 950 18
222.47—Periodic Updates —Written Affirmations That All Supplementary Safety Measures (SSMs)/Auxiliary Safety Measures (ASMs) Meet Requirements —Required Grade Crossing Inventory Forms | 200 Public Authorities 200 Public Authorities | 100 affirmations + 600 copies 500 updated forms | 30 min. + 2 min. 60 minutes | 70 500
222.51—Review of Quiet Zone Status —Written Commitment to Lower Risk Where Quiet Zone Risk Index Exceeds Nationwide Significant Risk Threshold —Review at FRA's Initiative—Opportunity to Comment | 9 Public Authorities 3 Public Authorities | 2 commitments 20 comments | 5 hours 30 minutes | 10 10
222.55—New Supplementary Safety Measures or Alternative Safety Measures—Administrator Approval —Opportunity for Public Comment —Request for Approval After Completed Demonstration | 265 Interested Parties 265 Interested Parties 265 Interested Parties | 1 approval letter 5 comments 1 approval letter | 30 minutes 30 minutes 30 minutes | 1 3 1
222.57—Review of the Associate Administrator's Actions—Petition for Review of Decision —Petition for Reconsideration of Denial of QZ Application —Follow-up Documents to Associate Administrator —Requests for Informal Hearing | 265 Interested Parties 200 Public Authorities 200 Public Authorities 200 Public Authorities | 1 petition + 5 copies 1 petition + 6 copies 1 document 1 letter | 60 min. + 2 min. 5 hrs. + 2 min. 2 hours 30 minutes | 1 5 2 1
222.59—Use of Wayside Horns —Installation w/in QZ and Written Notice to Railroads —Installation at Grade Crossing Outside Quiet Zone | 200 Public Authorities 200 Public Authorities | 10 notices + 60 copies 10 notices + 60 notice copies | 2.5 hours + 10 minutes 2.5 hours + 10 minutes | 35 35
Appendix B to Part 222—Alternative Safety Measures —Non-Engineering ASMs—Programmed Enforcement—Monitoring and Sampling Records —Photo Enforcement—Monitoring & Sampling Records | 200 Public Authorities 200 Public Authorities | 10 records 10 records | 500 hours 9 hours | 5,000 90
229.129—Locomotive Horn—Testing Requirements —Written Reports/Records of Testing —Re-Testing of Locomotive Horns—Reports/Records | 687 railroads 687 railroads | 7,743 reports/records 650 report/records | 60 minutes 60 minutes | 7,743 650

Total Responses: 21,476.

Estimated Total Annual Burden: 67,194 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on August 4, 2009.
Martin Eble,
Acting Director, Office of Financial Management, Federal Railroad Administration.

[FR Doc. E9-19060 Filed 8-7-09; 8:45 am]

BILLING CODE 4910-06-P